DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 18, 2018. If you anticipate difficulty in submitting comments within that period, contact the person listed in the FOR FURTHER INFORMATION CONTACT section as soon as possible.

ADDRESSES: Written comments may be sent to Alesia Gant, U.S. Department of Energy, 1000 Independence Avenue SW, Washington, DC 20585-1615, or by email at alesia.gant@hq.doe.gov; Ms. Gant may also be contacted at (202) 287-1476.

FOR FURTHER INFORMATION CONTACT: Alesia Gant at the address listed in ADDRESSES. Reporting requirements can be found at: https://energy.gov/sites/prod/files/2016/01/f28/Policy%20Flash%202016-11%20-%20Model%20H-Clause%201-14-16.pdf.

SUPPLEMENTARY INFORMATION: This information collection request contains: (1) OMB No. 1910-0600; (2) Information Collection Request Titled: Industrial Relations; (3) Type of Review: Renewal; (4) Purpose: This information is required for management oversight of the Department of Energy's Facilities Management Contractors and to ensure that the programmatic and administrative management requirements of the contract are managed efficiently and effectively; (5) Annual Estimated Number of Respondents: 42; (6) Annual Estimated Number of Total Responses: 316; (7) Annual Estimated Number of Burden Hours: 4,093; (8) Annual Estimated Reporting and Recordkeeping Cost Burden: $0.

Statutory Authority: 42 U.S.C. 7256; 48 CFR 970.0370-1.

Issued in Washington, DC, on March 14, 2018.
John R. Bashista,
Director, Office of Acquisition Management.

[FR Doc. 2018-07994 Filed 4-16-18; 8:45 am]

BILLING CODE 6450-01-P